DEPARTMENT OF COMMERCE

International Trade Administration

(A-570-868)

Folding Metal Tables and Chairs from the People's Republic of China: Notice of Partial Rescission of Antidumping Duty Administrative Review

AGENCY: Import Administration, International Trade Administration, Department of Commerce

EFFECTIVE DATE: September 26, 2008.

FOR FURTHER INFORMATION CONTACT: Lilit Astvatsatrian, AD/CVD Operations, Office 8, Import Administration, Room 1870, International Trade Administration, U.S. Department of Commerce, 14th Street and Constitution Avenue, NW, Washington, DC 20230; telephone: (202) 482-6412.

SUPPLEMENTARY INFORMATION:

Background

On June 9, 2008, the Department of Commerce (“the Department”) published a notice of opportunity to request an administrative review of the antidumping duty order on folding metal tables and chairs (“FMTCs”) from the People's Republic of China (“PRC”). See Antidumping or Countervailing Duty Order, Finding, or Suspended Investigation: Opportunity to Request Administrative Review, 73 FR 32557 (June 9, 2008). On June 23, 2008, Meco Corporation (“Meco”), a domestic producer of the like product, requested that the Department conduct an administrative review of Dongguan Shichang Metals Factory Co. Ltd. (“Shichang”). The Department published a notice of initiation of the antidumping duty administrative review of FMTCs from the PRC for the period June 1, 2007, through May 31, 2008. See Initiation of Antidumping and Countervailing Duty Administrative Reviews, Request for Revocation in Part, and Deferral of Administrative Review, 73 FR 44220 (July 30, 2008).

Rescission of Review

Pursuant to 19 CFR 351.213(d)(1), the Secretary will rescind an administrative review, in whole or in part, if the party that requested the review withdraws the request within 90 days of the date of publication of the notice of initiation of the requested review. On August 11, 2008, Meco timely withdrew its request for an administrative review of Shichang (i.e., within 90 days of the publication of the notice of initiation of this review). Because Meco was the only requesting party of an administrative review with respect to Shichang, the Department hereby rescinds the administrative review of FMTCs with respect to Shichang, in accordance with 19 CFR 351.213(d)(1). The Department intends to issue assessment instructions to U.S. Customs and Border Protection 15 days after the publication of this notice of partial rescission of administrative review.

Notification to Importers

This notice serves as a final reminder to importers of their responsibility under section 351.402(f) of the Department's regulations to file a certificate regarding the reimbursement of antidumping duties prior to liquidation of the relevant entries during this review period. Failure to comply with this requirement could result in the Secretary's assumption that reimbursement of antidumping duties occurred and subsequent assessment of double antidumping duties.

This notice is issued and published in accordance with section 777(i) of the Tariff Act of 1930, as amended, and 19 CFR 351.213(d)(4).

Dated: September 19, 2008.
Stephen J. Claeys,
Deputy Assistant Secretary for Import Administration.

[FR Doc. E8-22711 Filed 9-25-08; 8:45 am]

BILLING CODE 3510-DS-S